DEPARTMENT OF TRANSPORTATION

Coast Guard

33 CFR Part 117

[CGD01-01-095]

RIN 2115-AE47

Drawbridge Operation Regulations; Shrewsbury River, NJ

AGENCY: Coast Guard, DOT.

ACTION: Notice of withdrawal of proposed rule.

SUMMARY: The Coast Guard is withdrawing the notice of proposed rulemaking governing the operation of the Monmouth County highway bridge, at mile 4.0, across the Shrewsbury River at Sea Bright, New Jersey. The bridge repair project for the Monmouth County highway bridge was cancelled. This action withdraws the notice of proposed rulemaking and closes the docket.

ADDRESSES: Documents indicated in this preamble are available for inspection or copying at the First Coast Guard District, Bridge Administration Office, 408 Atlantic Avenue, Boston, Massachusetts, 02110-3350, between 7 a.m. and 3 p.m., Monday through Friday, except Federal holidays.

FOR FURTHER INFORMATION CONTACT: Mr. Joseph Arca, Project Officer, First Coast Guard District, (212) 668-7165.

SUPPLEMENTARY INFORMATION: On July 12, 2001, the Coast Guard published a notice of proposed rulemaking (NPRM) in the Federal Register (66 FR 36527) entitled Drawbridge Operation Regulations, Shrewsbury River, New Jersey. That NPRM, Coast Guard docket (CGD01-01-095), requested public comment regarding the proposal to temporarily change the drawbridge operation regulations that govern the Monmouth County highway. The purpose of the rulemaking was to facilitate bridge maintenance repairs scheduled to be performed during the winter of 2001-2002. No comments were received in response to the NPRM.

The repair project and proposed temporary operating schedule were subsequently cancelled for 2001-2002, due to unresolved contractual issues between the bridge owner and the contractor.

The bridge owner submitted a new request to the Coast Guard to temporarily change the drawbridge operation regulations for the Monmouth County highway bridge in order to facilitate the bridge maintenance previously scheduled for the winter of 2001-2002.

The Coast Guard published a temporary final rule under a new Coast Guard docket number (CGD01-02-122) on November 6, 2002, (67 FR 67549) entitled Drawbridge Operation Regulations Shrewsbury River, New Jersey, to facilitate the bridge repair work scheduled to be performed during the winter of 2002-2003.

The notice of proposed rulemaking (CGD01-01-095) published on July 12, 2001, is no longer necessary. The notice of proposed rulemaking is withdrawn and the docket is closed.

Dated: November 15, 2002.
V.S. Crea,
Rear Admiral, U.S. Coast Guard, Commander, First Coast Guard District.

[FR Doc. 02-30436 Filed 11-29-02; 8:45 am]

BILLING CODE 4910-15-P